DEPARTMENT OF THE INTERIOR

U.S. Geological Survey

[USGS-GX13LR000F60100]

Agency Information Collection Activities: Comment Request for the Comprehensive Test Ban Treaty (1 Form)

AGENCY: U.S. Geological Survey (USGS), Interior.

ACTION: Notice of an extension of a currently approved information collection (1028-0059).

SUMMARY: We (the USGS) will ask the Office of Management and Budget (OMB) to approve the information collection request (ICR) described below. This collection consists of 1 form. As required by the Paperwork Reduction Act (PRA) of 1995, and as part of our continuing efforts to reduce paperwork and respondent burden, we invite the general public and other Federal agencies to take this opportunity to comment on this ICR. This collection is scheduled to expire on September 30, 2013.

DATES: To ensure that your comments on this IC are considered, we must receive them on or before July 1, 2013.

ADDRESSES: Please submit a copy of your comments to the Information Collection Clearance Officer, U.S. Geological Survey, 807 National Center, 12201 Sunrise Valley Drive, Reston, VA 20192 (mail); 703-648-7195 (fax); or dgovoni@usgs.gov (email). Reference Information Collection 1028-0059 in the subject line.

FOR FURTHER INFORMATION CONTACT: Lori E. Apodaca at 703-648-7724 (telephone); lapodaca@usgs.gov (email); or by mail at U.S. Geological Survey, 989 National Center, 12201 Sunrise Valley Drive, Reston, VA 20192.

SUPPLEMENTARY INFORMATION:

I. Abstract

The collection of this information is required by the Comprehensive Test Ban Treaty (CTBT), and will, upon request, provide the CTBT Technical Secretariat with geographic locations of sites where chemical explosions greater than 300 tons TNT-equivalent have occurred.

II. Data

OMB Control Number: 1028-0059.

Form Number: 9-4040-A.

Title: Comprehensive Test Ban Treaty.

Type of Request: Extension of a currently approved collection.

Affected Public: Business or Other-For-Profit Institutions: U.S. nonfuel minerals producers.

Respondent Obligation: Voluntary.

Frequency of Collection: Annually.

Estimated Number of Annual Responses: 2,500.

Annual Burden Hours: 625 hours. We expect to receive 2,500 annual responses. We estimate an average of 15 minutes per response.

Estimated Reporting and Recordkeeping “Non-Hour Cost” Burden: We have not identified any “non-hour cost” burdens associated with this collection of information.

Public Disclosure Statement: The PRA (44 U.S.C. 3501, et seq.) provides that an agency may not conduct or sponsor a collection of information unless it displays a currently valid OMB control number and current expiration date.

III. Request for Comments

Comments: We are soliciting comments as to: (a) Whether the proposed collection of information is necessary for the agency to perform its duties, including whether the information is useful; (b) the accuracy of the agency's estimate of the burden time to the proposed collection of information; (c) how to enhance the quality, usefulness, and clarity of the information to be collected; and (d) how to minimize the burden on the respondents, including the use of automated collection techniques or other forms of information technology. Please note that the comments submitted in response to this notice are a matter of public record. Before including your address, phone number, email address, or other personal identifying information in your comment, you should be aware that your entire comment, including your personal identifying information, may be made publicly available at any time. While you can ask us in your comment to withhold your personal identifying information from public review, we cannot guarantee we will be able to do so.

Dated: April 18, 2013.
John H. DeYoung, Jr.,
Director, National Minerals Information Center, U.S. Geological Survey.

[FR Doc. 2013-10118 Filed 4-29-13; 8:45 am]

BILLING CODE 4311-AM-P